DEPARTMENT OF COMMERCE

Foreign-Trade Zones Board

T-4-2005

Foreign-Trade Zone 26 Atlanta, GA, Temporary/Interim Manufacturing Authority, Perkins Shibaura Engines LLC, (Compact Diesel Engines), Notice of Approval

On December 8, 2005, the Executive Secretary of the Foreign-Trade Zones (FTZ) Board filed an application submitted by Georgia Foreign-Trade Zone, Inc., grantee of FTZ 26, requesting temporary/interim manufacturing (T/IM) authority within Site 6 of FTZ 26, at the facilities of Perkins Shibaura Engines LLC (Perkins) located in Griffin, Georgia.

The application was processed in accordance with T/IM procedures, as authorized by FTZ Board Order 1347, including notice in the Federal Register inviting public comment (70 FR 74289, 12/15/05). The FTZ staff examiner reviewed the application and determined that it meets the criteria for approval under T/IM procedures. Pursuant to the authority delegated to the FTZ Board Executive Secretary in Board Order 1347, the application, as amended, was approved, effective February 21, 2006, until February 21, 2008, subject to the FTZ Act and the Board's regulations, including Section 400.28.

Dated: March 28, 2006.
Dennis Puccinelli,
Executive Secretary.

[FR Doc. E6-4862 Filed 4-3-06; 8:45 am]

Billing Code: 3510-DS-S